GOVERNMENT ACCOUNTABILITY OFFICE

Health Information Technology Policy Committee Appointment

AGENCY: Government Accountability Office (GAO).

ACTION: Notice on letters of nomination.

SUMMARY: The American Recovery and Reinvestment Act of 2009 (ARRA) established the Health Information Technology Policy Committee to make recommendations on the implementation of a nationwide health information technology infrastructure to the National Coordinator for Health Information Technology. There is an opening on the committee for a member from the research community. Candidates considered for this appointment will be required to complete a financial disclosure form. For this appointment I am announcing the following: Letters of nomination and resumes should be submitted through May 18, 2013 to ensure adequate opportunity for review and consideration of nominees.

ADDRESSES:

GAO: HITCommittee@gao.gov.

GAO: 441 G Street NW., Washington, DC 20548.

FOR FURTHER INFORMATION CONTACT: GAO: Office of Public Affairs, (202) 512-4800.

42 U.S.C. 300jj-2.

Gene L. Dodaro,
Comptroller General of the United States.

[FR Doc. 2013-09743 Filed 4-25-13; 8:45 am]

BILLING CODE 1610-02-M